DEPARTMENT OF TRANSPORTATION

Federal Aviation Administration

Dealer's Aircraft Registration Certificates

AGENCY: Federal Aviation Administration (FAA), DOT.

ACTION: Notice—Dealer's Aircraft Registration Certificate, AC Form 8050-6.

SUMMARY: The Federal Aviation Administration will begin assigning permanent Dealer's Aircraft Registration Certificate numbers to manufacturers and dealers who currently hold an unexpired dealer's certificate and any new issuances.

DATES: Effective Date: May 1, 2006.

FOR FURTHER INFORMATION CONTACT: Walter Binkley, Manager, Aircraft Registration Branch (AFS-750), Mike Monroney Aeronautical Center, Federal Aviation Administration (AFS-750), Post Office Box 25504, Oklahoma City, OK 73125. Telephone (405) 954-3131.

SUPPLEMENTARY INFORMATION: There are currently more than 3,900 U.S. civil aircraft registered using Dealer's Aircraft Registration Certificate, AC Form 8050-6, (dealer's certificate). Historically, each time a dealer's certificate was issued or renewed, a new certificate number was assigned.

In order to facilitate administration of the Dealer Certificate program, beginning May 1, 2006, the FAA's Aircraft Registry will begin issuing replacement Dealer Certificates with a permanent number assigned to that dealer. Expired Dealer Certificates will not be reissued with a permanently assigned number unless restored as discussed in the last paragraph of this notice. The assignment of a permanent number does not cause the certificate itself to be permanent. In accordance with 14 CFR part 47.71, a dealer's certificate continues to expire 1 year after the date it is issued.

The new permanent dealer certificate number will begin with the letter “D” followed by six numbers, i.e. D000001, The permanent certificate number will facilitate linking all aircraft currently registered under that dealer's certificates to that dealer. The aircraft records will reflect the address shown on the Dealer's Aircraft Registration Certificate Application, AC Form 8050-5 (dealer's application). Aircraft registered under a dealer's certificate in the future will be linked to the dealer by the permanent certificate number and show the same address as the dealer's application.

Any aircraft registered under a dealer's certificate that has expired will be placed in an Expired Dealer status. An acceptable Dealer's Aircraft Registration Certificate Application, AC Form 8050-5, or an Aircraft Registration Application, AC Form 8050-1, and the appropriate fee must be submitted to re-register the aircraft in accordance with 14 CFR part 47.

Issued in Oklahoma City, OK on April 7, 2006.
Mark Lash,
Manager, Civil Aviation Registry.

[FR Doc. 06-3662 Filed 4-17-06; 8:45 am]

BILLING CODE 4910-13-M